DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of May 24, 2010 through May 28, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-73,706: Blumenthal Print Works, Inc., Head Office, New Orleans, LA: March 11, 2009

TA-W-71,871: Watts Regulator, Leased Workers from Employment Staffing, Inc., Spindale, NC: July 30, 2008

TA-W-72,393: Global Safety Textiles, Automotive Safety Division of International Textile Group, Greenville, SC: September 22, 2008

TA-W-73,290: SMI Crankshaft, LLC, Fostoria, OH: January 13, 2009

TA-W-73,448: Blue Heron Paper Company, Oregon City, OR: February 1, 2009

TA-W-73,470: Sykes Enterprises, Incorporated, Milton-Frewater, OR: February 5, 2009

The following certifications have been issued. The requirements of Section 222(a)(2)(B) (shift in production or services) of the Trade Act have been met.

TA-W-72,816: Merkel Freudenberg, Inc., Freudenberg-NOK and Leased Workers from Aventure Staffing, Spencer, IA: November 9, 2008

TA-W-73,292: Huntington Foam LLC, Fort Smith Division, Fort Smith, AR: January 6, 2009

TA-W-73,427: Haldex Hydraulics Corporation, Statesville Location, Leased Workers Onin Staffing and Manpower, Statesville, NC: January 29, 2009

TA-W-73,453: Multi-Fineline Electronix, Incorporation, DBA MFLEX, leased workers from Adecco, Anaheim, CA: January 22, 2009

TA-W-73,525: Halliburton Company, Technology and Engineering Division, Duncan, OK: February 17, 2009

TA-W-73,592: Schneider Electric, Leased Workers from Volt, Columbia, MO: March 1, 2009

TA-W-73,594: Glaston USA, Inc., Glaston America, Inc., Cinnaminson, NJ: March 1, 2009

TA-W-73,726: Pentair Water, Water Pump Manufacturing Plant, Leased Workers of Mancan and Spherion, Ashland, OH: March 4, 2009

TA-W-73,800: Sensata Technologies MA, Incorporated, Power Controls Division, Airpax Corporation, Cambridge, MD: March 25, 2010

TA-W-73,854: MSA, Englewood-Fall Protection, Leased Workers Primesource Staffing & Advantage, Englewood, CO: March 24, 2009

TA-W-73,934: Pass & Seymour/Legrand, Legrand North America; Leased Workers from Select Staffing and Aerotek, Concord, NC: June 14, 2010

TA-W-73,957: Cessna Aircraft, Columbus Facility, Fabrication and Assembly, Leased Workers Manpower, Columbus, GA: April 15, 2009

TA-W-73,525A: Halliburton Company, Finance and Administration Division, Duncan, OK: February 17, 2009

TA-W-73,092: Sun Microsystems, Inc., Oracle Corporation, Netbeans Engineering Division, Santa Clara, CA: December 1, 2008

TA-W-73,202: Sumtotal Systems, Inc., Bellevue, WA: December 31, 2008

TA-W-73,403: Honeywell Transportation Systems, Turbo Technology Division, Leased Workers Manpower Professional, Torrance, CA: January 25, 2009

TA-W-73,434: Festo Corporation, Customer Resource Center, Earth City, MO: January 28, 2009

TA-W-73,481: Dish Network, LLC, Customer Service Call Center, Leased Workers Clean Care and US Security, Mckeesport, PA: February 8, 2009

TA-W-73,573: LaCie Limited, Technical Support Group, Leased Workers from Aerotek, Hillsboro, OR: February 22, 2009

TA-W-73,704: Qantas Airways Limited, Tucson Reservations Center, Tucson, AZ: March 12, 2009

TA-W-73,710: Sam Malone Enterprises, Inc., City of Industry, CA: March 11, 2009

TA-W-73,833: VF Jeanswear Limited Partnership, VF Corporation, Holly Pond, AL: April 1, 2009

TA-W-74,003: VF Jeanswear Limited Partnership, Procurement Department, Greensboro, NC: April 22, 2009

TA-W-72,454: Columbia St. Mary's, Inc., Ascension Health, Medical Billing, Leased Workers Accretive Health, Glendale, WI: September 29, 2008

TA-W-73,405: Freedom Communications, Inc., Information Technology, Leased Workers Abigail Abbott Corelink, Kforce, Santa Ana, CA: January 29, 2009

TA-W-73,740: Allstate Insurance Company, Allstate Product Technology Division, Northbrook, IL: March 12, 2009

TA-W-73,889: Health Net, Inc., Claims Processing Group, Systems Configuration Org.; Leased Workers Kelly, Shelton, CT: April 7, 2009

TA-W-73,889A: Health Net, Inc., Claims Processing Group, Systems Configuration Org.; Leased Workers Kelly, Matawan, NJ: April 7, 2009

The following certifications have been issued. The requirements of Section 222(c) (supplier to a firm whose workers are certified eligible to apply for TAA) of the Trade Act have been met.

TA-W-72,445: Ven Ply, Inc., High Point, NC: September 29, 2008

TA-W-73,031: Bruckner Supply Company, Inc., Dana Holding Corporation, Longview, TX: November 25, 2008

TA-W-73,429: Masonico, LLC, Leased Workers from Personnel Unlimited, Fraser, MI: January 29, 2009

TA-W-73,690: LSI Marcole, Inc., LSI Industries, Inc., Leased Workers from Ranstad, Manchester, TN: March 5, 2009

TA-W-73,885: IAC Sheyboygan, LLC, Sheyboygan, WI: April 8, 2009

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-73,882: Ford Motor Company, Maumee Stamping Plant, Maumee, OH

TA-W-72,049A: Tennant Company, Maple Grove, MN

The investigation revealed that the criteria under paragraphs (a)(2)(A)(i) (decline in sales or production, or both) and (a)(2)(B) (shift in production or services to a foreign country) of section 222 have not been met.

TA-W-73,478: Attachmate Corporation, Localization Group, Seattle, WA

TA-W-73,527: TG Kentucky, LLC, Toyoda Gosei North America Corporation, Lebanon, KY

The investigation revealed that the criteria under paragraphs (a)(2)(A) (increased imports) and (a)(2)(B) (shift in production or services to a foreign country) of section 222 have not been met.

TA-W-72,049: Tennant Company, Minneapolis, MN

TA-W-72,302: Cargo Solutions LLC, Princeton, Princeton Delivery Systems; Cargotec U.S. Manufacturing; Cargotec Holding, Canal Winchester, OH

TA-W-72,603: The Woodbridge Group, Woodbridge Ventures, Auburn Hills, MI

TA-W-72,621: Agr International, Inc., Butler, PA

TA-W-72,697: Lucite International, Inc., Nederland, TX

TA-W-73,080: ATK Launch Systems, Inc., Alliant Techsystems, Inc., Corinne, UT

TA-W-72,434: Ford Motor Company, World Headquarters Division, Dearborn, MI

TA-W-72,675: Kenco Logistic Services, LLC, Evansville, IN

TA-W-73,467: ASTAR Air Cargo, Inc., Florence, KY

TA-W-73,503: Compass Group USA, Inc., Canteen, Webster City, IA

TA-W-73,512: GlaxoSmithKline, LLC, Sales Division, Springfield, MO

TA-W-73,617: Air Products and Chemicals, Inc., Research Division, Allentown (Trexlertown), PA

TA-W-73,905: McNeil and NRM, Inc., Akron, OH

TA-W-73,525B: Halliburton Energy Services, Duncan Field Camp Division, Duncan, OK

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W-72,698: Designs Now, Kettering, OH

TA-W-72,727: Andrews International, Inc., Evansville, IN

TA-W-73,217: Yazaki North America, Fenton, MO

TA-W-73,372: Sylvan Hardwoods, LLC, McRae, GA

TA-W-73,410: Industrial Machining Corporation, Fort Smith, AR

TA-W-73,830: CMC Markets (US) LLC, New York, NY

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W-73,820: Adrenaline Sporting Goods, LLC, Sherwood, OR

The following determinations terminating investigations were issued because the petitions are the subject of ongoing investigations under petitions filed earlier covering the same petitioners.

TA-W-72,740: Bruss North America, Russell Springs, KY

I hereby certify that the aforementioned determinations were issued during the period of May 24, 2010, through May 28, 2010. Copies of these determinations may be requested under the Freedom of Information Act. Requests may be submitted by fax, courier services, or mail to FOIA Disclosure Officer, Office of Trade Adjustment Assistance (ETA), U.S. Department of Labor, 200 Constitution Avenue, NW., Washington, DC 20210 or to foiarequest@dol.gov. These determinations also are available on the Department's Web site at www.doleta.gov/tradeact under the searchable listing of determinations.

Dated: June 7, 2010.
Elliott S. Kushner,
Certifying Officer, Division of Trade Adjustment Assistance.

[FR Doc. 2010-14452 Filed 6-15-10; 8:45 am]

BILLING CODE 4510-FN-P